NATIONAL AERONAUTICS AND SPACE ADMINISTRATION

[Notice 04-080]

NASA Advisory Council, Minority Business Resource Advisory Committee; Meeting

AGENCY: National Aeronautics and Space Administration (NASA).

ACTION: Notice of meeting.

SUMMARY: In accordance with the Federal Advisory Committee Act, Public Law 92-463, as amended, the National Aeronautics and Space Administration announce a forthcoming meeting of the NASA Advisory Council (NAC), Minority Business Resource Advisory Committee.

DATES: Thursday, July 22, 2004, 9 a.m. to 4 p.m., and Friday, July 23, 2004, 9 a.m. to 12 noon.

ADDRESSES: Jet Propulsion Laboratory (JPL) 4800 Oak Grove Drive, Room 180-101 Pasadena, CA 91109.

FOR FURTHER INFORMATION CONTACT: Mr. Ralph C. Thomas III, Code K, National Aeronautics and Space Administration, (202) 358-2088.

SUPPLEMENTARY INFORMATION: The meeting will be open to the public up to the seating capacity of the room. The agenda for the meeting is as follows:

• Review of Previous Meeting.

• Return to Flight.

• Agency Transformation.

• NAC Meeting Report.

• Overview of Small Business Program.

• Public Comment.

• Panel Discussion and Review.

• Office of Small and Disadvantage Business Utilization National Program Update.

• New Business.

Attendees will be requested to sign a register and to comply with NASA security requirements, including the presentation of a valid picture ID, before receiving an access badge. Foreign nationals attending this meeting will be required to provide the following information: full name; gender; date/place of birth; citizenship; employee/affiliation information (name of institution, address, country, phone); title/position of attendee. To expedite admittance, attendees can provide identifying information in advance by contacting Mr. Lamont Hames via e-mail at lhames@nasa.gov or by telephone at 202-358-2088. It is imperative that the meeting be held on this date to accommodate the scheduling priorities of the key participants.

Visitors will be requested to sign a visitor's register.

R. Andrew Falcon,
Advisory Committee Management Officer, National Aeronautics and Space Administration.

[FR Doc. 04-15257 Filed 7-2-04; 8:45 am]

BILLING CODE 7510-01-P